DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Standards and Security (SSS).

Time and Date: 9 a.m. to 5 p.m., March 30, 2004. 8:30 a.m. to 3 p.m., March 31, 2004.

Place: Hubert H. Humphrey Building, 200 Independence Avenue, SW., Room 505A, Washington, DC 20201.

Status: Open.

Purpose: The entire day on March 30 will be devoted to invited experts providing the Subcommittee with an overview of e-prescribing, including a general picture of the state of the industry, related standards, requirements for the Center for Medicare and Medicaid Services (CMS) under the recent Medicare reform legislation, and the experience of major Federal agencies. March 31 will include an update of the Health Insurance Portability and Accountability Act of 1996 (HIPAA) implementation, a presentation by the Workgroup for Electronic Data Interchange (WEDI) on recommendations developed at its recent annual meeting, and the annual report from the Designated Standards Maintenance Organizations (DSMO). Time will also be reserved for other issues that may be pending and for Subcommittee discussion.

For Further Information Contact: Substantive program information as well as summaries of meetings and a roster of Committee members may be obtained from Maria Friedman, Health Insurance Specialist, Security and Standards Group, Centers for Medicare and Medicaid Services, MS: C5-24-04, 7500 Security Boulevard, Baltimore, MD 21244-1850, telephone: 410-786-6333 or Marjorie S. Greenberg, Executive Secretary, NCVHS, National Center for Health Statistics, Centers for Disease Control and Prevention, Room 1100, Presidential Building, 3311 Toledo Road, Hyattsville, Maryland 20782, telephone: (301) 458-4245. Information also is available on the NCVHS Home page of the HHS Web Site: http://www.ncvhs.hhs.gov/ where an agenda for the meeting will be posted when available.

Should you require reasonable accommodation, please contact the CDC Office of Equal Employment Opportunity on (301) 458-4EEO (4336) as soon as possible.

Dated: March 16, 2004.
James Scanlon,
Acting Deputy Assistant Secretary for Science and Data Policy, Office of the Assistant Secretary for Planning and Evaluation.

[FR Doc. 04-7067 Filed 3-29-04; 8:45 am]

BILLING CODE 4151-05-M